DEPARTMENT OF TRANSPORTATION

Federal Aviation Administration

14 CFR Part 39

[Docket No. FAA-2019-0020; Product Identifier 2018-NM-144-AD; Amendment 39-19659; AD 2019-12-04]

RIN 2120-AA64

Airworthiness Directives; Airbus SAS Airplanes

AGENCY: Federal Aviation Administration (FAA), Department of Transportation (DOT).

ACTION: Final rule.

SUMMARY: The FAA is superseding Airworthiness Directive (AD) 2018-19-18, which applied to certain Airbus SAS Model A300 B4-603, B4-620, and B4-622 airplanes; Model A300 B4-600R series airplanes; Model A300 C4-605R Variant F airplanes; and Model A300 F4-605R airplanes. AD 2018-19-18 required, depending on airplane configuration, a modification of certain angle fitting attachment holes; repetitive inspections for cracking of certain holes of the internal lower angle fitting web, certain holes of the internal lower angle fitting horizontal splicing, the aft bottom panel, and a certain junction area; and related investigative and corrective actions if necessary. This new AD retains those actions, expands the applicability, and, for certain airplanes, requires repetitive inspections for cracking of certain holes of the center wing box (CWB) lower angle fittings and the CWB lower panel, and corrective actions if necessary, as specified in an European Aviation Safety Agency (EASA) AD, which is incorporated by reference. This AD was prompted by reports of cracking of a certain frame (FR) angle fitting. The FAA is issuing this AD to address the unsafe condition on these products.

DATES: This AD is effective August 7, 2019.

The Director of the Federal Register approved the incorporation by reference of a certain publication listed in this AD as of August 7, 2019.

ADDRESSES: For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0020; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

The FAA issued a notice of proposed rulemaking (NPRM) to amend 14 CFR part 39 to supersede AD 2018-19-18, Amendment 39-19418 (83 FR 49793, October 3, 2018) (“AD 2018-19-18”). AD 2018-19-18 applied to certain Airbus SAS Model A300 B4-603, B4-620, and B4-622 airplanes; Model A300 B4-600R series airplanes; Model A300 C4-605R Variant F airplanes; and Model A300 F4-605R airplanes. The NPRM published in the Federal Register on February 15, 2019 (84 FR 4387). The NPRM was prompted by the determination that additional airplanes may be affected by the unsafe condition. The NPRM proposed to continue to require, depending on airplane configuration, a modification of certain angle fitting attachment holes; repetitive inspections for cracking of certain holes of the internal lower angle fitting web, certain holes of the internal lower angle fitting horizontal splicing, the aft bottom panel, and a certain junction area; and related investigative and corrective actions if necessary. The NPRM also proposed to expand the applicability, and, for certain airplanes, proposed to require repetitive inspections for cracking of certain holes of the CWB lower angle fittings and the CWB lower panel, and corrective actions if necessary. The FAA is issuing this AD to address cracking of the FR47 angle fitting, which could result in reduced structural integrity of the airplane.

EASA, which is the Technical Agent for the Member States of the European Union, has issued EASA AD 2018-0229, dated October 23, 2018 (“EASA AD 2018-0229”) (also referred to as the Mandatory Continuing Airworthiness Information, or “the MCAI”), to correct an unsafe condition for certain Airbus SAS Model A300 B4-603, B4-620, B4-622, B4-605R, B4-622R, C4-605R Variant F, F4-605R, and F4-622R airplanes. The MCAI states:

Prompted by cracks found on CWB FR47 angle fittings, Airbus issued SB [service bulletin] A300-57-6049, SB A300-57-6050, and SB A300-57-6086.

These cracks, if not detected and corrected, could affect the structural integrity of the CWB of the aeroplane.

Consequently, DGAC [Direction Générale de l'Aviation Civile] France published AD 94-241-170, AD 1999-147-279, AD 2000-533-328 and AD F-2004-159 (EASA approval 2004-9779), each [DGAC France] AD superseding the previous one, to require repetitive high frequency eddy current (HFEC) rotating probe inspections of the FR47 internal lower angle fitting.

After DGAC France AD F-2004-159 was issued, cracks were reportedly found on the horizontal flange of the FR47 internal corner angle fitting during accomplishment of routine maintenance structural inspection and modification in accordance with the instructions of Airbus SB A300-57-6050. Prompted by these findings, Airbus reviewed and amended the inspection programme for the internal lower angle fitting flange (horizontal face).

Consequently, EASA issued AD 2012-0092 [which corresponds to FAA AD 2014-20-18, Amendment 39-17991 (79 FR 65879, November 6, 2014) (“AD 2014-20-18”)] retaining the requirements of DGAC France AD F-2004-159, which was superseded, and requiring additional repetitive inspections of the CWB lower panel through the ultrasonic method and, depending on findings, re-installation of removed fasteners in transition fit instead of interference. In addition, DGAC France had previously issued AD F-2005-124 (EASA approval 2005-6071) to require CWB FR47 angle fittings inspections for A300 F4-608ST aeroplanes, in accordance with Airbus SB A300-57-9001 and SB A300-57-9002.

Following the discovery of numerous cracks during the accomplishment of SB A300-57-6049 and SB A300-57-6086 inspections, Airbus developed in a first step a new (recommended) modification (Airbus SB A300-57-6113), defined associated inspections programme and methods (ultrasonic/radiographic), and published SB A300-57-6119. Consequently, EASA issued AD 2016-0198, retaining the requirements of EASA AD 2012-0092, which was superseded, to require repetitive inspections for post-SB A300-57-6113 aeroplanes.

After EASA AD 2016-0198 was issued, Airbus revised in a second step the inspection programme for A300-600 pre-SB A300-57-6113 and A300-600ST aeroplanes, reducing inspection thresholds and intervals. At this opportunity, the existing ultrasonic inspection of the CWB lower panel for A300-600 aeroplanes was added for A300-600ST aeroplanes. Consequently, EASA issued AD 2017-0210 [which corresponds to FAA AD 2018-19-18] retaining the requirements of EASA AD 2016-0198 for A300-600 aeroplanes and DGAC France AD F-2005-124 for A300-600ST aeroplanes, which were both superseded, to include these new requirements.

Since EASA AD 2017-0210 was issued, Airbus revised in a third step the inspection programme for A300-600 post-mod 12171 and post-mod 12249 reducing inspection thresholds and intervals, and introducing the CWB lower panel inspection. Airbus published SB A300-57-6121, superseding Airworthiness Limitation Items (ALI) tasks 571012 & 571014.

For the reason described above, this [EASA] AD retains the requirements of EASA AD 2017-0210, which is superseded, and expands the Applicability (Group 3) to include post-mod 12171 and post-mod 12249 aeroplanes [and requires sending inspection results to Airbus].

You may examine the MCAI in the AD docket on the internet at http://www.regulations.gov by searching for and locating Docket No. FAA-2019-0020.

Comments

The FAA gave the public the opportunity to participate in developing this final rule. The following presents the comments received on the NPRM and the FAA's response to each comment.

Request To Extend Grace Period for Certain Inspections

United Parcel Service (UPS) requested that the grace periods specified in Note 6 and Note 8 of EASA AD 2018-0229 for the inspections specified in paragraph (7) and paragraph (9) of EASA AD 2018-0229 be extended to 30 months after the effective date of the AD, or 18,700 flight cycles, whichever occurs later. UPS reasoned that the proposed AD is being issued to supersede AD 2018-19-18 in order to add airplanes that are post-modification 12171 and 12249. UPS noted that post-modification 12171 and 12249 airplanes have not had any crack findings in service, and that previous related ADs were issued as a result of inferior fatigue characteristics compared to airplanes that are post-modification 12171. UPS pointed out that, of the inspections it has completed so far, there have not been any findings that require part replacement or major repairs. UPS also reasoned that the airworthiness limitation item inspections that the service information is superseding are not required until 18,700 flight cycles at the earliest. Further, UPS asserted that the proposed grace period would require UPS to send airplanes to a maintenance facility on a special visit to accomplish this inspection. UPS maintained that the suggested grace period would provide an equivalent level of safety for the proposed action.

The FAA does not agree with the commenter's request to extend the proposed grace period. In developing an appropriate compliance time for this action, the FAA considered the urgency associated with the subject unsafe condition based on similarly affected models and information received from EASA. In addition, the FAA considered the practical aspect of accomplishing the required modification within a period of time that corresponds to the normal scheduled maintenance for most affected operators. In consideration of these factors, the FAA has determined that a 12-month grace period will ensure an acceptable level of safety. However, under the provisions of paragraph (k)(1) of this AD, the FAA will consider requests for approval of an extension of the grace period if sufficient data are submitted to substantiate that the new grace period would provide an acceptable level of safety. The FAA has not changed this AD in this regard.

Request To Use Later Approved Revisions of Certain Service Information

FedEx requested clarification to determine if a statement in EASA AD 2018-0229 is applicable to this AD, and if all later approved service information revisions are acceptable for compliance with this AD. FedEx pointed out that the Reference Publications section of EASA AD 2018-0229 allows the use of later approved revisions to the specified service information for compliance.

The FAA agrees to clarify. This AD does not exclude the Reference Publications section of the MCAI. Therefore, this AD does not disallow the “later approved revisions” language typically used in EASA ADs. The FAA has not changed this AD in this regard.

Request To Reference Latest Service Information

FedEx requested that Airbus Service Bulletin A300-57-6086, Revision 7, dated March 26, 2018, be allowed as acceptable for compliance with the requirements of the proposed AD. FedEx pointed out that EASA AD 2018-0229 references Airbus Service Bulletin A300-57-6086, Revision 6, dated July 4, 2017, which has since been revised to Airbus Service Bulletin A300-57-6086, Revision 7, dated March 26, 2018, noting that AD 2018-19-18 allows the use of Airbus Service Bulletin A300-57-6086, Revision 7, dated March 26, 2018.

In response, the FAA notes that this AD refers to the MCAI for compliance, which in turn refers to the service information that is the required for accomplishing the required actions. As stated previously, this AD does not exclude the Reference Publications section of the MCAI. Therefore, this AD does not disallow the “later approved revisions” language typically used in EASA ADs. Therefore, no change to this AD is necessary in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2018-0229, dated October 23, 2018, describes procedures for a modification of the angle fitting attachment holes, an inspection of certain holes of the internal lower angle fitting web for cracking, an inspection of certain holes of the internal lower angle fitting horizontal splicing for cracking, an inspection of the aft bottom panel for cracking, an inspection of the FR47/Rib 1 junction area for cracking, an inspection of certain holes of the CWB lower angle fittings for cracking, an inspection of the CWB lower panel for cracking, and corrective actions. The corrective actions include a rotating probe inspection for cracking, replacing damaged fasteners, reaming and drilling holes, installing the next nominal fastener for oversized bore holes, and repairing cracks. This material is reasonably available because the interested parties have access to it through their normal course of business or by the means identified in the ADDRESSES section.

Costs of Compliance

The FAA estimates that this AD affects 65 airplanes of U.S. registry. The FAA estimates the following costs to comply with this AD:

Estimated Costs for Required Actions *
Action | Labor cost | Parts cost | Cost per product | Cost on U.S. operators
Retained actions from AD 2018-19-18 | Up to 727 work-hours × $85 per hour = Up to $61,795 | Up to $3,370 | Up to $65,165 | Up to $4,235,725.
New actions | 242 work-hours × $85 per hour = $20,570 | $100 | $20,670 | $1,343,550.
* Table does not include estimated costs for reporting.

The FAA estimates that it would take about 1 work-hour per product to comply with the reporting requirement in this AD. The average labor rate is $85 per hour. Based on these figures, the FAA estimates the cost of reporting the inspection results on U.S. operators to be $5,525, or $85 per product.

The FAA has received no definitive data that would enable the agency to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Will not affect intrastate aviation in Alaska; and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-19-18, Amendment 39-19418 (83 FR 49793, October 3, 2018), and adding the following new AD:

2019-12-04 Airbus SAS: Amendment 39-19659; Docket No. FAA-2019-0020; Product Identifier 2018-NM-144-AD.

(a) Effective Date

This AD is effective August 7, 2019.

(b) Affected ADs

(1) This AD replaces AD 2018-19-18, Amendment 39-19418 (83 FR 49793, October 3, 2018) (“AD 2018-19-18”).

(2) This AD affects AD 2014-20-18, Amendment 39-17991 (79 FR 65879, November 6, 2014) (“AD 2014-20-18”).

(c) Applicability

This AD applies to Airbus SAS Model A300 B4-603, B4-620, B4-622, B4-605R, B4-622R, C4-605R Variant F, F4-605R, and F4-622R airplanes, certificated in any category, as identified in European Aviation Safety Agency (EASA) AD 2018-0229, dated October 23, 2018 (“EASA AD 2018-0229”).

(d) Subject

Air Transport Association (ATA) of America Code 57, Wings.

(e) Reason

This AD was prompted by reports of cracking of the frame (FR) 47 angle fitting. The FAA is issuing this AD to address cracking of the FR47 angle fitting, which could result in reduced structural integrity of the airplane.

(f) Compliance

Comply with this AD within the compliance times specified, unless already done.

(g) Requirements

Except as specified in paragraph (h) of this AD: Comply with all required actions and compliance times specified in, and in accordance with EASA AD 2018-0229.

(h) Exceptions to EASA AD 2018-0229

(1) For purposes of determining compliance with the requirements of this AD: Where EASA AD 2018-0229 refers to its effective date, this AD requires using the effective date of this AD.

(2) The “Remarks” section of EASA AD 2018-0229 does not apply to this AD.

(3) Where Note 1 of EASA AD 2018-0229 specifies the grace period to be counted from January 6, 2001, this AD requires the grace period to be counted from December 19, 2005 (the effective date of AD 2005-23-08, Amendment 39-14366 (70 FR 69056, November 14, 2005) (“AD 2005-23-08”)).

(4) Where Note 2 and Note 4 of EASA AD 2018-0229 specify the grace periods to be counted from November 7, 2017, without exceeding certain inspection thresholds and intervals, the grace periods in those Notes for this AD are within 12 months after November 7, 2018 (the effective date of AD 2018-19-18).

(5) Paragraph (11) of EASA AD 2018-0229 specifies to report all inspection results to Airbus. For this AD, report all inspection results to Airbus Service Bulletin Reporting Online Application on Airbus World (https://w3.airbus.com/) at the applicable time specified in paragraph (h)(5)(i) or (h)(5)(ii) of this AD. The report must include the inspection results, the method of inspection, the airplane serial number, and the number of flight cycles and flight hours on the airplane.

(i) If the inspection was done on or after the effective date of this AD: Submit the report within 30 days after the inspection.

(ii) If the inspection was done before the effective date of this AD: Submit the report within 30 days after the effective date of this AD.

(i) Terminating Action for AD 2014-20-18

Accomplishment of the action required by paragraph (1) of EASA AD 2018-0229 and the initial inspections required by paragraphs (3), (4), and (5) of EASA AD 2018-0229 terminates all requirements of AD 2014-20-18.

(j) Credit for Previous Actions

This paragraph provides credit for actions required by paragraph (1) of EASA AD 2018-0229, if those actions were performed before December 19, 2005 (the effective date of AD 2005-23-08) using Airbus Service Bulletin A300-57-6050, Revision 02, dated February 10, 2000.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(1) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0229 that contains RC procedures and tests: Except as required by paragraph (k)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(l) Related Information

(1) For more information about this AD, contact Dan Rodina, Aerospace Engineer, International Section, Transport Standards Branch, FAA, 2200 South 216th St., Des Moines, WA 98198; telephone and fax 206-231-3225.

(2) For Airbus service information identified in this AD that is not incorporated by reference, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0229, dated October 23, 2018.

(ii) [Reserved]

(3) For EASA AD 2018-0229, contact the EASA, Konrad-Adenauer-Ufer 3, 50668 Cologne, Germany; telephone +49 221 89990 6017; email ADs@easa.europa.eu; Internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2018-0229 may be found in the AD docket on the internet at http://www.regulations.gov by searching for and locating Docket No. FAA-2019-0020.

(5) You may view this material that is incorporated by reference at the National Archives and Records Administration (NARA). For information on the availability of this material at NARA, call 202-741-6030, or go to: http://www.archives.gov/federal-register/cfr/ibr-locations.html.

Issued in Des Moines, Washington, on June 12, 2019.
Dionne Palermo,
Acting Director, System Oversight Division, Aircraft Certification Service.

[FR Doc. 2019-14152 Filed 7-2-19; 8:45 am]

BILLING CODE 4910-13-P